GENERAL SERVICES ADMINISTRATION

[Notice-FTR-2012-01; Docket 2012-0004; Sequence 4]

Federal Travel Regulation (FTR): Relocation Allowances; Notice of Public Meeting

AGENCY: Office of Governmentwide Policy (OGP), U.S. General Services Administration (GSA).

ACTION: Notice of Public Meeting.

SUMMARY: The General Services Administration (GSA), Office of Governmentwide Policy (OGP) will be conducting an industry day where the relocation industry, the public and Federal agencies are encouraged to inform GSA of industry best practices or opportunities for improvement in the Federal Travel Regulations (FTR) in the sections pertaining to Federal employee relocation. Specifically, this is an effort to increase relocation efficiency and effectiveness, while incorporating industry best practices. Additional goals of this effort are to allow for open transparency, an exchange of ideas, and provide agency flexibility.

DATES: The meeting will take place on July 31, 2012, at GSA Headquarters Building, 1800 F Street NW., Washington, DC.

FOR FURTHER INFORMATION CONTACT: Mr. Ed Davis, GSA, 1275 First Street NE., Washington, DC 20417; telephone: (202) 208-7638; or email: ed.davis@gsa.gov.

SUPPLEMENTARY INFORMATION:

Background

GSA under applicable authorities, such as 5 U.S.C. 5707; 5 U.S.C. 5738; 5 U.S.C. 5756; 20 U.S.C. 905(a); E.O. 11609; 13 FR 13747; and 3 CFR 1971-1975 Comp., p. 586; is currently addressing the FTR Chapter 302—Relocation Allowances and related appendices. The last major rewrite of the FTR took place in 2011.

Meeting Details

Place: The one day public meeting will be held at the GSA's Auditorium, 1800 F Street NW., Washington, DC 20405. The meeting is open to industry and the general public beginning at 9:00 a.m. EST through 4 p.m. EST.

Attendance: The event is open to the public based upon space availability. Attendees and speakers must pre-register. A limited number of speakers will be allowed to make oral presentations based upon space and on a first-come, first-serve basis.

Pre-registration: To pre-register, as an attendee or speaker, contact Mr. Davis by email as detailed above. Participants interested in speaking should indicate the category they would like to address, your name, company name or organization (if applicable), telephone number and email no later than the close of business on July 14, 2012.

Agenda: Presentations from industry and the public will be time limited. Each registered presenter will be allotted a total of 20 minutes.

Statements and Presentations: Send written or electronic statements and requests to make oral presentations to the contact person listed above. Submissions must be provided to Mr. Davis at ed.davis@gsa.gov no later than the close of business on July 14, 2012.

Information on Services for Individuals with Disabilities: Individuals requiring special accommodations at the meeting, please contact Mr. Davis no later than the close of business on July 14, 2012.

Dated: June 18, 2012.
Janet C. Dobbs,
Deputy Associate Administrator, Office of Asset and Transportation Management .

[FR Doc. 2012-15432 Filed 6-22-12; 8:45 am]

BILLING CODE 6820-14-P